CONSUMER PRODUCT SAFETY COMMISSION

[Docket No. CPSC-2019-0005]

Agency Information Collection Activities; Submission for OMB Review; Comment Request; Anchor It! Campaign Survey

AGENCY: Consumer Product Safety Commission.

ACTION: Notice.

SUMMARY: As required under the Paperwork Reduction Act of 1995 (PRA), the Consumer Product Safety Commission (CPSC) announces that CPSC has submitted to the Office of Management and Budget (OMB) a new proposed collection of information by the agency on a survey that will evaluate consumer awareness or recognition of CPSC's “Anchor It!” campaign. On April 8, 2019, the CPSC published a notice in the Federal Register announcing the agency's intent to seek approval of this collection of information. The CPSC received no comments in response to that notice. Therefore, by publication of this notice, the CPSC announces that it has submitted to the OMB a request for approval of this collection of information.

DATES: Written comments on this request for approval of information collection requirements should be submitted by September 3, 2019.

ADDRESSES: Submit comments about this request by email: OIRA_submission@omb.eop.gov or fax: 202-395-6881.

Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2019-0005.

FOR FURTHER INFORMATION CONTACT: Bretford Griffin, Consumer Product Safety Commission, 4330 East West Highway, Bethesda, MD 20814; (301) 504-7037, or by email to: bgriffin@cpsc.gov. A copy of the proposed survey submitted to OMB titled “PRA Anchor It Survey OMB Submittal” is available at: www.regulations.gov under Docket No. CPSC-2019-0005, Supporting and Related Material.

SUPPLEMENTARY INFORMATION: Under the PRA (44 U.S.C. 3501-3520), federal agencies must obtain approval from the OMB for each collection of information they conduct or sponsor. “Collection of information” is defined in 44 U.S.C. 3502(3) and 5 CFR 1320.3(c) and includes agency proposed surveys.

A. Anchor It! Campaign Proposed Survey

CPSC is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that CPSC may conduct research, studies, and investigations on the safety of consumer products or test consumer products and develop product safety test methods and testing devices.

In October 2018, CPSC issued a report “Product Instability or Tip-Over Injuries and Fatalities Associated with Televisions, Furniture, and Appliances” (2018 Report), which showed that emergency departments across the United States treated an estimated 27,300 television- or furniture stability-related injuries annually in 2015-2017 (8,200 involved televisions or both televisions and furniture and 19,100 involved only furniture).¹ The 2018 Report also reviewed death incidents from 2000 through 2017, and found 507 fatalities (342 involved televisions or both televisions and furniture and 165 involved only furniture.) The 2018 Report showed that children account for the vast majority of both fatalities (83%), as well as the majority of estimated non-fatal emergency department-treated injuries (50%) caused by TV/furniture instability. Of child fatalities, 72 percent involved TV tip-over, and 24 percent furniture tip-over.

¹ https://www.cpsc.gov/s3fs-public/Product%20Instability%20or%20Tip%20Over%20Report%20Oct%202018_STAMPED.pdf?J6AwbQ.ZwNQKkWQknOKUDi4ur0i.6D73.

To address the hazard associated with TV/furniture tip-overs, as early as 2015, CPSC implemented an information and education campaign called, “Anchor It!” that stressed the importance of safely and securely mounting TVs and furniture to walls with a goal of reducing the number of injuries and deaths due to TV/furniture tip-over.² CPSC seeks, through the proposed survey, to evaluate consumer awareness or recognition of the “Anchor It!” campaign, consumer comprehension of the risks and remedies of TV/furniture tip over and anchoring, and consumer behavior and attitude change from the “Anchor It!” campaign.

² https://www.cpsc.gov/Safety-Education/Safety-Education-Centers/Tipover-Information-Center/.

The proposed survey will collect data from a sample of approximately 600 parent and non-parent caregivers of children ages 0-5 years to assess their current behaviors about anchoring furniture and/or televisions in homes, their attitudes and beliefs about anchoring, their knowledge of the CPSC and the “Anchor It!” campaign, and their intentions about anchoring in the future. The proposed survey consists of a highly varied national sample. The proposed survey data will enable CPSC to assess individuals' existing knowledge of anchoring furniture and televisions, and inform recommendations on how to modify the “Anchor It!” campaign to better target and educate parents and non-parent caregivers. Findings that arise from the proposed survey may also be used by CPSC in designing future studies.

CPSC has entered into a contract with Fors Marsh Group (FMG) to conduct the proposed survey and collect the data. The National Opinion Research Center (NORC) will program and administer the final survey over the internet. NORC will contact participants electronically via email. The proposed survey will be administered using a secure online platform, and the results from the proposed survey will be accessible only to authorized personnel. Following data collection, FMG will summarize the results and provide a final report, along with the dataset, to CPSC staff.

B. Burden Hours

The proposed survey will take approximately 20 minutes to complete. We estimate the number of respondents to be 600. We estimate the total annual burden hours for respondents to be 200 hours. The monetized hourly cost is $36.22, as defined by the average total hourly cost to employers for employee compensation for employees across all occupations as of June 2018, reported by the Bureau of Labor Statistics. We estimate the total cost burden to be $7,244 (200 hours × $36.22). The total cost to the federal government for the contract to design and conduct the proposed survey is $210,112.

C. Submission to OMB

Section 3506(c)(2)(A) of the PRA (44 U.S.C. 3506(c)(2)(A)) requires federal agencies to provide a 60-day notice in the Federal Register concerning each proposed collection of information before submitting the collection to OMB for approval. On April 8, 2019, the CPSC published a notice of the proposed collection in the Federal Register. (84 FR 13912). The CPSC did not receive any comments. However, CPSC staff made a few editorial changes to the survey to fix typographical errors (e.g., revise “SafeProducts.gov” to “SaferProducts.gov”), and included a few clarifying questions in the survey, such as whether the children in the home ever climb and/or pull on furniture? (e.g., dressers, bookshelves),” and whether the participant ever saw an ad/news story/public service announcement about anchoring furniture. These questions merely serve to make the existing questions in the survey more clear and understandable for participants, and do not otherwise alter or expand the scope of the survey instrument. Accordingly, the CPSC has submitted the proposed collection to OMB. A copy of the proposed survey titled “PRA Anchor It Survey OMB Submittal” is available at: www.regulations.gov under Docket No. CPSC-2019-0005, Supporting and Related Material.

Alberta E. Mills,
Secretary, Consumer Product Safety Commission.

[FR Doc. 2019-16366 Filed 7-31-19; 8:45 am]

BILLING CODE P